DEPARTMENT OF JUSTICE

Antitrust Division

Notice Pursuant to the National Cooperative Research and Production Act of 1993—National Armaments Consortium

Notice is hereby given that, on November 11, 2025, pursuant to section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances.

Specifically, Absolute Machining LLC, Fort Wayne, IN; AMERICAN TRIAD LLC, Miami, FL; Amsted Graphite Materials, LLC, Anmoore, WV; AngmarTek LLC, Kenmore, WA; Applied Research Solutions, Beavercreek, OH; Arc Space Innovation LLC, Herndon, VA; Archaius LLC, Durham, NC; Basic Commerce and Industries, Inc., Moorestown, NJ; Brainstorm Technologies, Slidell, LA; BROCO, INC., Ontario, CA; C3A Solutions LLC, Carthage, NC; Concepts NREC LLC, White River Junction, VT; Core4ce LLC, Arlington, VA; Created Solutions Inc., Harvest, AL; Critical Defense, Inc., Windber, PA; Daniel H. Wagner Associates, Inc., Hampton, VA; Davis Defense Group, Inc., Stafford, VA; Dynovas Inc., Poway, CA; ELEVATE, CREATE, INNOVATE CONSULTING LLC, Sunderland, MD; EOTECH LLC, Plymouth, MI; Gallatin AI, Inc., Washington, DC; Gartner, Inc., Stamford, CT; Geissele Automatics, LLC, North Wales, PA; Govsignals, Inc., New York, NY; Hadrian Automation Inc., Torrance, CA; IDV USA, Inc., York, PA; Innovative Rocket Technologies, East Islip, NY; Intrinsic Enterprises, Inc., Bellevue, WA; Maritech, Panama City, FL; McKinsey & Company, Inc., Washington, DC; Metalware, Inc., San Francisco, CA; Michael Baker International, Inc., Moon Township, PA; MSM GROUP NORTH AMERICA, Inc., St. Petersburg, FL; N.J. Precision Technologies, Inc., Mountainside, NJ; Obviant, Inc., Arlington, VA; Organization of Strategic Sciences LLC, Draper, UT; Palantir USG, Inc., Palo Alto, CA; Pilot Systems International LLC, Farmington Hills, MI; Preferred Program Solutions, Inc., Madison, AL; PROMESS INCORPORATED, Brighton, MI; Purdue Applied Research Institute LLC, West Lafayette, IN; Radical Defense LLC, Stafford, TX; Raglan LLC, Wilmington, NC; Research and Engineering Solutions LLC, Purcellville, VA; Rune Technologies, Inc., Alexandria, VA; Saronic Technologies, Inc., Austin, TX; Science, Engineering, Mgmt Solutions, LLC dba Sem-Sol, Albuquerque, NM; Seal Company Enterprises, Inc., Tulsa, OK; Sherpa 6, Inc., Littleton, CO; Sierra Lobo, Inc., Fremont, OH; SitScape, Inc., Vienna, VA; Southeastern Computer Consultants, Inc., King George, VA; Supernova Industries Corp, Austin, TX; System Studies & Simulation, Inc., Huntsville, AL; TAP Engineering LLC, Columbia, MD; ThinKom Solutions Inc., Hawthorne, CA; Trimer Technologies LLC, Ann Arbor, MI; and VIGO Photonics Corporation, St. Petersburg, FL, have been added as parties to this venture.

Also, Blacksky Geospatial Solutions, LLC, Herndon, VA; NanoElectromagnetics LLC, Columbia, MO; Barrett Firearms Manufacturing, Inc., Christiana, TN; Electronics Development Corp., Columbia, MD; Rapid Imaging Technologies LLC, Middleton, WI; Illinoisrocstar LLC, Champaign, IL; Numerica Corporation, Fort Collins, CO; Alloy Surfaces CO, Inc., Aston, PA; American Material Handling, Inc., Watkinsville, GA; and Princeton Infrared Technologies, Inc., Monmouth Junction, NJ, have withdrawn as parties to this venture.

No other changes have been made in either the membership or planned activity of the group research project. Membership in this group research project remains open, and NAC intends to file additional written notifications disclosing all changes in membership.

On May 2, 2000, NAC filed its original notification pursuant to section 6(a) of the Act. The Department of Justice published a notice in the Federal Register pursuant to section 6(b) of the Act on June 30, 2000 (65 FR 40693).

The last notification was filed with the Department on July 11, 2025. A notice was published in the Federal Register pursuant to section 6(b) of the Act on August 15, 2025 (90 FR 39421).

Suzanne Morris,
Deputy Director Civil Enforcement Operations, Antitrust Division.

[FR Doc. 2026-03536 Filed 2-20-26; 8:45 am]

BILLING CODE 4410-11-P